ENVIRONMENTAL PROTECTION AGENCY

40 CFR Parts 55 and 71

[FRL-7138-1]

State and Local Jurisdictions Where a Federal Operating Permits Program Became Effective on December 1, 2001—Connecticut; Maryland

AGENCY: Environmental Protection Agency (EPA).

ACTION: Notice of States and local jurisdictions subject to 40 CFR parts 55 and 71.

SUMMARY: On July 1, 1996, pursuant to title V of the Clean Air Act (Act) as amended in 1990, EPA published a new regulation at 61 FR 34202 (codified as 40 CFR part 71) setting forth the procedures and terms under which the Administrator will issue operating permits to covered stationary sources of air pollution. This rule, called the “part 71 rule,” became effective on July 31, 1996. In general, the primary responsibility for issuing operating permits to sources rests with State, local, and Tribal air agencies. However, EPA will administer a Federal operating permits program in areas that lack an EPA-approved or adequately administered operating permits program and in other limited situations. The Federal operating permits program will serve as a “safety net” to ensure that sources of air pollution are meeting their permitting requirements under the Act. Federally issued permits will meet the same title V requirements as do State issued permits. The purpose of this document is to provide the names of those State and local jurisdictions where a Federal operating permits program is effective on December 1, 2001.

FOR FURTHER INFORMATION CONTACT: A. Scott Voorhees at (919) 541-5348 (e-mail: voorhees.scott@epa.gov).

SUPPLEMENTARY INFORMATION:

I. Background, Authority and Purpose

What Is the Intent of “Title V” of the Clean Air Act?

Title V of the Act as amended in 1990 (42 U.S.C. 7661 et seq.) directs States to develop, administer, and enforce operating permits programs that comply with the requirements of title V (section 502(d)(l)). Section 502(b) of the Act requires that EPA promulgate regulations setting forth provisions under which States develop operating permits programs and submit them to EPA for approval. Pursuant to this section, EPA promulgated 40 CFR part 70 on July 21, 1992 (57 FR 32250) which specifies the minimum elements of approvable State operating permits programs.

What Is a “Federal Operating Permits Program''?

Sections 502(d)(3) and 502(i)(4) of the Act require EPA to promulgate a Federal operating permits program when a State does not obtain approval of its program within the timeframe set by title V or when a State fails to adequately administer and enforce its approved program. The part 71 rule published on July 1, 1996 establishes a national template for a Federal operating permits program that EPA will administer and enforce in those situations. Part 71 also establishes the procedures for issuing Federal permits to sources for which States do not have jurisdiction (e.g., Outer Continental Shelf sources outside of State jurisdictions and sources located in Indian Country over which EPA and Indian Tribes have jurisdiction). Finally, part 71 provides for delegation of certain duties that may provide for a smoother program transition when part 70 programs are approved.

This notice makes frequent use of the term “State.” This term includes a State or a local air pollution control agency that would be the permitting authority for a part 70 permit program. The term “permitting authority” can refer to State, local, or Tribal agencies and may also apply to EPA where the Agency is the permitting authority of record.

II. Description of Action

What Is the Purpose of This Notice?

The EPA is, by this notice, providing a list of State and local jurisdictions where EPA assumed responsibility to issue permits, effective as of December 1, 2001. The EPA received submittals of part 70 operating permits programs from all 52 State and territorial agencies and all 60 local programs. The EPA has granted full approvals to all of the operating permits programs except Connecticut and Maryland. As a result, EPA expects that the impact of the Federal operating permits program rule will be minimal. The EPA is working with the affected States in an effort to fully approve a State program before significant resources must be expended.

Will Some Pollution Sources Be Required To Prepare New Permit Applications?

Yes. Section 71.5(a)(1) of part 71 provides that a timely application is one that is submitted within 12 months or an earlier date after a source that does not have an operating permit issued by a State under the State's part 70 program becomes subject to the part 71 program. Because part 71 for these two State jurisdictions was effective on December 1, 2001, such sources are required to submit part 71 permit applications no later than December 1, 2002. Sources required to submit applications earlier than 12 months will be notified in advance by the permitting authority (whether it is EPA or a State in the case of a delegated part 71 program) and given a reasonable time to submit their applications. In general, this notice shall not be given less than 180 days in advance of the deadline for submittal of the application.

III. List of States and Local Jurisdictions

Which State and Local Jurisdictions Became Subject to a Federal Operating Permits Program on December 1, 2001?

Connecticut: The EPA's Region I proposed full approval of the State's program on August 13, 2001. See 66 FR 42496. However, EPA is unable to take final action on this proposal because Connecticut's interim approval expired on December 1, 2001, and the necessary corrections to the State's program will not become effective until early 2002. Until Connecticut's program receives final full approval, part 71 is effective in the State.

Maryland: Maryland acknowledged that it would not have in place by December 1, 2001 law to unambiguously provide standing for judicial review of the permits consistent with the Act and 40 CFR part 70. Therefore, on December 1, 2001, Maryland lost its interim approval status of its part 70 permitting program. See 66 FR 63236 (December 5, 2001) for further details.

The Office of Management and Budget has exempted this action informing the public of a Federal air quality permitting program, as outlined above, from Executive Order 12688 review. This notice is issued under the authority of sections 101, 110, 112 and 301 of the Act as amended (42 U.S.C. 7401, 7410, 7412, 7601).

Dated: January 30, 2002.
John S. Seitz,
Director, Office of Air Quality Planning and Standards.

[FR Doc. 02-2834 Filed 2-5-02; 8:45 am]

BILLING CODE 6560-50-P